DEPARTMENT OF TRANSPORTATION

Federal Aviation Administration

First Meeting, Special Committee 213/EUROCAE: Enhanced Flight Vision Systems/Synthetic Vision Systems (EFVS/SVS), EUROCAE Working Group 79(WG-79)

AGENCY: Federal Aviation Administration (FAA), DOT.

ACTION: Notice of RTCA Special Committee 213/EUROCAE, Enhanced Flight Vision Systems/Synthetic Vision Systems (EFVS/SVS), EUROCAE Working Group 79 (WG 79).

SUMMARY: The FAA is issuing this notice to advise the public of a first meeting of RTCA Special Committee 213, Standards for Air Traffic Data Communication Services.

DATES: The meeting will be held September 30-October 2, 2008 from 9 a.m.-5 p.m.

ADDRESSES: The meeting will be held at Thales Avionics, Rue Toussaint Catros 33187 Le Haillian France (next to Bordeaux Airport).

SUPPLEMENTARY INFORMATION: Pursuant to section 10(a)(2) of the Federal Advisory Committee Act (Pub. L. 92-463, 5 U.S.C., Appendix 2), notice is hereby given for a Special Committee 213 meeting. The agenda will include:

September 30:

• Opening Plenary Session (Welcome, Introductions, and Agenda Review) Review and approve SC-213/WG-79 Terms of Reference

• General objectives of this meeting: Approve MASPS; Develop Advanced Vision System CONOPS, follow-on dates

• Review and approve SC-213 Plenary Session 6 meeting minutes.

• Review agenda for document approval

• Presentations: European Airworthiness and Operating Criteria

• Afternoon work session as required, with end goal of having a completed document to present to the committee for approval to proceed

• Thales Demonstration

October 1:

• Continuation of meeting to discuss MASPS and Advanced Vision System CONOPS

October 2:

• Conclude discussion of Advanced Vision System CONOPS

• Next meeting dates and locations

• Feedback

• Review of Action Items

• Closing Plenary Session (Other Business, Date and Place of Next Meeting, Meeting Evaluation, Adjourn)

Attendance is open to the interested public but limited to space availability. With the approval of the chairmen, members of the public may present oral statements at the meeting. Persons wishing to present statements or obtain information should contact the person listed in the FOR FURTHER INFORMATION CONTACT section.

Members of the public may present a written statement to the committee at any time.

Issued in Washington, DC, on September 9, 2008.
Robert L. Bostiga,
RTCA Advisory Committee (Acting).

[FR Doc. E8-21511 Filed 9-16-08; 8:45 am]

BILLING CODE 4910-13-M